DEPARTMENT OF HEALTH AND HUMAN SERVICES

Medical Reserve Corps Request for Information

AGENCY: Office of the Assistant Secretary for Preparedness and Response (ASPR), Department of Health and Human Services (HHS).

ACTION: Request for information.

SUMMARY: The American Rescue Plan provides $100 million to the Medical Reserve Corps (MRC) program. To inform a strategic and impactful plan for execution of this funding, HHS is issuing this Request for Information (RFI). The RFI solicits specific input regarding current strengths and needs of MRC units and stakeholders, resource gaps highlighted during the COVID-19 response, and recommendations for short- and long-term priorities for the MRC. The set of questions is available in the SUPPLEMENTARY INFORMATION section below.

DATES: To be considered, public comments must be received electronically no later than midnight eastern standard time (EST) 30 days after posting.

ADDRESSES: Public comments should be submitted online at http://www.regulations.gov. All submissions must be submitted to the Docket named HHS-ASPR-2021-0013 to “Request for Information (RFI) from Non-Federal Stakeholders: Advancing the Medical Reserve Corps with the American Rescue Plan.” Comments submitted electronically, including attachments, will be posted to the docket unchanged and available to view by the public. Evidence and information supporting your comment can be submitted as attachments. Please provide your contact information or organization name on the web-based form for possible follow up from HHS. There is a 5,000 character limit on comments and maximum number (10) of attached files and maximum size (10 MB) of each attached file.

FOR FURTHER INFORMATION CONTACT: Esmeralda Pereira, MSPH, Director, Medical Reserve Corps Program, Office of the Assistant Secretary for Preparedness and Response, Department of Health and Human Services, Washington, DC, (202) 205-0065 or esmeralda.pereira@hhs.gov.

SUPPLEMENTARY INFORMATION: The Volunteer Medical Reserve Corps is authorized by Section 2813 of the Public Health Service Act [42 U.S.C. 300hh-15]. The MRC program supports a national network of over 200,000 volunteers organized into approximately 760 local community-based units. MRC units are committed to improving local emergency response capabilities, reducing vulnerabilities, and building community preparedness and resilience. More than 500 MRC units in 48 states, the District of Columbia, Puerto Rico, American Samoa, and the Northern Mariana Islands have bolstered local emergency response capabilities and served as critical medical and public health response assets during the COVID-19 pandemic.

The American Rescue Plan provides an unprecedented opportunity to invest in and advance the Medical Reserve Corps. The RFI seeks public input on the current strengths and needs of MRC units and stakeholders, resource gaps highlighted during the COVID-19 response, and recommendations for short- and long-term priorities for the MRC. Responses may address one or more of the areas below:

1. What do you see as the top strengths of the Medical Reserve Corps? Has the COVID-19 pandemic highlighted new or different strengths of the MRC?

2. What do you see as the top needs or resource gaps of the MRC? Has the COVID-19 pandemic highlighted new or different needs of the MRC?

3. Do you have recommendations on the top short- and long-term priorities for the MRC? What operational capabilities, services, or competencies would you propose that the MRC focus on? Do you have recommendations on ways to strengthening the MRC's role as a federal disaster response asset?

4. Any additional topics you wish to provide input on.

The information received will inform the planning for executing the American Rescue Plan funding.

Nikki Bratcher-Bowman,
Acting Assistant Secretary for Preparedness and Response.

[FR Doc. 2021-10618 Filed 5-19-21; 8:45 am]

BILLING CODE 4150-37-P